DEPARTMENT OF COMMERCE

International Trade Administration

[A-570-825]

Sebacic Acid from the People's Republic of China: Extension of Time Limit for Final Results of Antidumping Duty Administrative Review

AGENCY: Import Administration, International Trade Administration, Department of Commerce.

SUMMARY: The Department of Commerce (the Department) is extending the time limit for the final results of the 2002-2003 antidumping duty administrative review of the antidumping duty order on sebacic acid from the People's Republic of China (PRC) by seven days from December 3, 2004, until no later than December 10, 2004. The period of review (POR) is July 1, 2002, through June 30, 2003. This extension is made pursuant to section 751(a)(3)(A) of the Tariff Act of 1930, as amended by the Uruguay Round Agreements Act (the Act).

EFFECTIVE DATE: December 8, 2004.

FOR FURTHER INFORMATION CONTACT: Jennifer Moats or Brian Ledgerwood, China/NME Group, AD/CVD Operations, Import Administration, International Trade Administration, U.S. Department of Commerce, 14th Street and Constitution Avenue, NW, Washington, DC 20230; telephone: (202) 482-5047 or (202) 482-3836, respectively.

SUPPLEMENTARY INFORMATION:

Background

On August 5, 2004, the Department published the preliminary results of administrative review of the antidumping duty order on sebacic acid from the PRC. See Sebacic Acid from the People's Republic of China: Preliminary Results of Antidumping Duty Administrative Review and Notice of Partial Recision, 69 FR 47409 (August 5, 2004) (Preliminary Results). The review covers Guangdong Chemical Import and Export Corporation and the period July 1, 2002, through June 30, 2003. Extension of Time Limits for Final Results

Section 751(a)(3)(A) of the Act requires the Department to issue the preliminary results of an administrative review within 245 days after the last day of the anniversary month of an antidumping duty order for which a review is requested and issue the final results within 120 days after the date on which the preliminary results are published. If it is not practicable to complete the review within the time period, section 751(a)(3)(A) of the Act allows the Department to extend these deadlines to a maximum of 365 days and 180 days, respectively.

In the instant review, the Department has determined that it is not practicable to complete the review within the statutory time limit due to the need for analysis of certain complex issues, such as the selection of appropriate methodology for the calculation of the co-product. Therefore, in accordance, with section 751(a)(3)(A) of the Act, the Department is extending the time limit for the final results to no later than December 10, 2004, which is 127 days from the date of publication of the Preliminary Results.

This notice is issued and published in accordance with section 751(a)(1) of the Act and 19 CFR 351.213(h)(2).

Dated: December 2, 2004.
Barbara E. Tillman,
Acting Deputy Assistant Secretary for Import Administration.

[FR Doc. E4-3559 Filed 12-7-04; 8:45 am]

BILLING CODE 3510-DS-S